DEPARTMENT OF ENERGY

Federal Energy Regulatory Commission

[Docket No. EL17-89-000]

American Electric Power Service Corporation v. Midcontinent Independent System Operator, Inc., Southwest Power Pool, Inc.; Notice of Complaint

Take notice that on September 15, 2017, pursuant to sections 206 and 309 of the Federal Power Act, 16 U.S.C. 824(e) and 825(h) (2012) and Rule 206 of the Federal Energy Regulatory Commission's (Commission) Rules of Practice and Procedure, 18 CFR 385.206 (2017), American Electric Power Service Corporation (AEP or Complainant), on behalf of its operating company affiliate, Southwestern Electric Power Company (SWEPCO) filed a formal complaint against Midcontinent Independent System Operator, Inc. (MISO) and Southwest Power Pool, Inc. (SPP) (jointly Respondents), alleging that MISO violated the Joint Operating Agreement between MISO and SPP with respect to the assessment of certain congestion charges associated with SWEPCO loads that are pseudo-tied out of MISO and into SPP, all as more fully explained in the complaint.

AEP certifies that copies of the complaint were served on the contacts for MISO and SPP as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for electronic review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 5, 2017.

Dated: September 18, 2017.
Kimberly D. Bose,
Secretary.

[FR Doc. 2017-20198 Filed 9-21-17; 8:45 am]

BILLING CODE 6717-01-P